DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: 2012 National Survey on Drug Use and Health (NSDUH) Questionnaire Field Test—NEW

The National Survey on Drug Use and Health (NSDUH) is a survey of the civilian, non-institutionalized population of the United States 12 years old and older. The data are used to determine the prevalence of use of tobacco products, alcohol, illicit substances, and illicit use of prescription drugs. The results are used by SAMHSA, ONDCP, Federal government agencies, and other organizations and researchers to establish policy, direct program activities, and better allocate resources.

In order to continue producing current data, SAMHSA's Center for Behavioral Health Statistics and Quality (CBHSQ) must update the NSDUH periodically to reflect changing substance abuse and mental health issues. CBHSQ is planning to redesign the NSDUH for the 2015 survey year. The redesign will seek to achieve two main goals: (1) To revise the questionnaire to address changing policy and research data needs, and (2) to modify the survey methodology to improve the quality of estimates and the efficiency of data collection and processing. SAMHSA is requesting approval to conduct a Questionnaire Field Test (QFT) to test revisions to the questionnaire associated with these goals.

The field test will consist of 2,000 English-speaking respondents in the continental United States. The sample size of the survey will be large enough to detect differences between data collected using the annual NSDUH compared to the redesigned procedures. The total annual burden estimate is shown below:

Estimated Burden for 2012 NSDUH QFT
Instrument | Number of respondents | Responses per respondent | Hours per response | Total burden hours | Hourly wage rate | Annualized costs
Household Screening | 3,338 | 1 | 0.083 | 277 | $14.45 | $4,003
Interview | 2,000 | 1 | 1.250 | 2,500 | 14.45 | 36,125
Screening Verification | 100 | 1 | 0.067 | 6.7 | 14.45 | 97
Interview Verification | 300 | 1 | 0.067 | 20 | 14.45 | 289
Total | 3,338 |  |  | 2,804 |  | 40,514

Written comments and recommendations concerning the proposed information collection should be sent by June 4, 2012 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2012-10758 Filed 5-3-12; 8:45 am]

BILLING CODE 4162-20-P